FEDERAL COMMUNICATIONS COMMISSION

47 CFR Part 64

[CG Docket Nos. 21-402, 02-278, 17-59; FCC 23-107; FR ID 207543]

Targeting and Eliminating Unlawful Text Messages, Implementation of the Telephone Consumer Protection Act of 1991, Advanced Methods To Target and Eliminate Unlawful Robocalls; Correction

AGENCY: Federal Communications Commission.

ACTION: Final rule; correction.

SUMMARY: On January 2, 2024, the Federal Communications Commission (Commission) published a final rule requiring terminating mobile wireless providers to block text messages from a particular number following notification from the Commission. The Commission also codified that the National Do-Not-Call (DNC) Registry's protections extend to text messages. An amendment in the final rule with a delayed effective date provided an incomplete revision of a certain paragraph. This document corrects that amendatory instruction.

DATES: This correction is effective January 27, 2025.

FOR FURTHER INFORMATION CONTACT: Jerusha Burnett of the Consumer Policy Division, Consumer and Governmental Affairs Bureau, at jerusha.burnett@fcc.gov, 202 418-0526, or Mika Savir of the Consumer Policy Division, Consumer and Governmental Affairs Bureau, at mika.savir@fcc.gov or (202) 418-0384.

SUPPLEMENTARY INFORMATION: In the final rule published January 26, 2024, the Commission amended 47 CFR 64.1200. One of the amendments revises paragraph (f)(9)(i), effective January 27, 2025. However, the instruction for the revision incorrectly stated the entire paragraph (f)(9) is revised, which would result in the loss of paragraph (f)(9)(ii), as it was not provided in the revised text. The Commission did not intend to remove paragraph (f)(9)(ii), and this correction lists the specific revision to paragraph (f)(9).

Correction

In FR Rule Doc. No. 2023-28832 appearing on page 5098 in the Federal Register of Friday, January 26, 2024, the following correction is made:

§ 64.1200 [Corrected]

1. On page 5105, in the first column, in amendment 6, the instruction “Effective January 27, 2025, further amend § 64.1200 by revising paragraph (f)(9) to read as follows:” is corrected to read “Effective January 27, 2025, further amend § 64.1200 by revising paragraphs (f)(9) introductory text and (f)(9)(i) to read as follows:”.

Marlene Dortch,
Secretary, Office of the Secretary.

[FR Doc. 2024-05241 Filed 3-11-24; 8:45 am]

BILLING CODE 6712-01-P